DEPARTMENT OF THE INTERIOR

Fish and Wildlife Service

Information Collection Sent to the Office of Management and Budget (OMB) for Approval; OMB Control Number 1018-0102; Applications for Special Use Permits on National Wildlife Refuges Outside Alaska

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on January 31, 2008. We may not conduct or sponsor and a person is not required to respond to a collection of information unless it displays a currently valid OMB control number. However, under OMB regulations, we may continue to conduct or sponsor this information collection while it is pending at OMB.

DATES: You must submit comments on or before March 3, 2008.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey by mail, fax, or e-mail (see ADDRESSES) or by telephone at (703) 358-2482.

SUPPLEMENTARY INFORMATION:

OMB Control Number: 1018-0102.

Title: Applications for Special Use Permits on National Wildlife Refuges Outside Alaska, 50 CFR 25.41, 25.61, 26.36, 27.71, 27.91, 27.97, 29.1, 29.2, 30.11, 31.2, 31.13, 31.14, 31.16, and 32.2(1), and 43 CFR 5.

Service Form Number(s): 3-1383.

Type of Request: Revision of existing collection.

Affected Public: Individuals and households; business and other for-profit organizations; nonprofit institutions; farms; and State, local, or tribal governments.

Respondent's Obligation: Required to obtain or retain a benefit.

Frequency of Collection: On occasion.

Estimated Annual Number of Respondents: 14,225.

Estimated Total Annual Responses: 14,225.

Estimated Time Per Response: 1 hour.

Estimated Total Annual Burden Hours: 14,225.

Abstract: The National Wildlife Refuge System Administration Act of 1966 (16 U.S.C. 668dd-668ee) (Administration Act) and the Refuge Recreation Act of 1962 (16 U.S.C. 460k-460k-4) (Recreation Act) govern the administration and uses of national wildlife refuges and wetland management districts. The Administration Act consolidated all of the different refuge areas into a single National Wildlife Refuge System (System). It also authorizes us to permit public accommodations, including commercial visitor services, on lands of the System when we find that the activity is compatible and appropriate with the purpose for which the refuge was established. The Recreation Act allows the use of refuges for public recreation when it is not inconsistent or does not interfere with the primary purpose(s) of the refuge.

In our general refuge regulations, we provide for public entry for specialized purposes, including economic activities such as the operation of guiding and other visitor services on refuges by concessionaires or cooperators under the appropriate legal instrument or special use permits (50 CFR 25.41, 25.61, 26.36, 27.71, 27.91, 27.97, 29.1, 29.2, 30.11, 31.2, 31.13, 31.14, 31.16, and 32.2(1), and 43 CFR 5). These regulations provide the authorities and procedures for allowing permits on refuges outside of Alaska.

We will issue special use permits for a specific period as determined by the type and location of the use or visitor service provided. These permits authorize activities such as:

(1) Farming operations (haying and grazing, 50 CFR 29.2).

(2) Beneficial management tools that we use to provide the best habitat possible on some refuges (50 CFR 30.11, 31.14, and 31.16).

(3) Recreational visitor service operations (50 CFR 25.41 and 25.61).

(4) Commercial filming (50 CFR 27.71) and other commercial activities (50 CFR 29.1).

(5) Research and other noncommercial activities (50 CFR 26.36).

We collect the following information in both form (FWS Form 3-1383) and nonform format:

(1) Identifying data (name, organization, address, and telephone number);

(2) Activity for which the permit is being requested (agriculture, commercial, research/monitoring, commercial visitor services, commercial filming, special event, etc.);

(3) Description of the activity including:

(a) Where it will take place (units, trails, roads);

(b) When (seasons, days, hours);

(c) How (methods, techniques, transportation);

(d) Frequency (one time, daily, occasionally);

(e) Number of people/vehicles/boats;

(f) Special needs/access.

In addition to the above, we may require researchers to provide a copy of their research proposal. This information helps us to:

(1) Determine if requested activities are compatible and appropriate with the purpose for which the refuge was established.

(2) Ensure that the applicant is eligible for the permit.

Comments: On November 28, 2007, we published in the Federal Register (72 FR 67313) a notice of our intent to request that OMB renew this ICR. In that notice, we solicited comments for 60 days, ending on January 28, 2008. We received one comment. The commenter did not address the information collection requirements, but stated that there should be no economic use on national wildlife refuges and requested a list of all permits granted in the past year. As stated in item 1 above, the Administration Act authorizes us to permit public accommodations, including commercial visitor services, on lands of the System when we find that the activity is compatible and appropriate with the purpose for which the refuge was established. We do not maintain a consolidated list of special use permits. We encouraged the commenter to contact individual refuges to obtain the desired information and provided a website that lists contact information. We did not make any changes to our information collection requirements as a result of this comment.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: January 8, 2008
Hope Grey,
Information Collection Clearance Officer, Fish and Wildlife Service.

FR Doc. E8-1669 Filed 1-30-08; 8:45 pm

BILLING CODE 4310-55-S